DEPARTMENT OF ENERGY

Federal Energy Regulatory Commission

[Docket No. RP04-229-001]

Natural Gas Pipeline Company of America; Notice of Amendment to Tariff Filing

June 23, 2004.

Take notice that on May 28, 2004, Natural Gas Pipeline Company of America (Natural) tendered for filing to become part of its FERC Gas Tariff, Sixth Revised Volume No. 1, the following revised tariff sheet, to be effective as soon as feasible:

Substitute Second Revised Sheet No. 280B

Natural states that the purpose of this filing is to revise the General Terms and Conditions in Natural's Tariff relating to shipper creditworthiness. Natural further states that specifically, the proposed changes would allow Natural to obtain security from non-creditworthy customers on gas loaned under any park and loan service.

Natural states that copies of the filing are being served on all parties to this proceeding.

Any person desiring to protest said filing should file a protest with the Federal Energy Regulatory Commission, 888 First Street, NE., Washington, DC 20426, in accordance with § 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: June 29, 2004.

Magalie R. Salas,
Secretary.

[FR Doc. E4-1445 Filed 6-29-04; 8:45 am]

BILLING CODE 6717-01-P